DEPARTMENT OF HOMELAND SECURITY

Coast Guard

[USCG-2005-21992]

Merchant Marine Personnel Advisory Committee

AGENCY: Coast Guard, DHS.

ACTION: Notice of meetings.

SUMMARY: The Merchant Marine Personnel Advisory Committee (MERPAC) and its working groups will meet to discuss various issues relating to the training and fitness of merchant marine personnel. MERPAC advises the Secretary of Homeland Security on matters relating to the training, qualifications, licensing, and certification of seamen serving in the U.S. merchant marine. All meetings will be open to the public.

DATES: MERPAC will meet on Wednesday, September 7, 2005, from 8:30 a.m. to 4:30 p.m. and on Thursday, September 8, 2005, from 8:30 a.m. to 4 p.m. These meetings may adjourn early if all business is finished. Requests to make oral presentations should reach the Coast Guard on or before August 24, 2005. Written material and requests to have a copy of your material distributed to each member of the committee or subcommittee should reach the Coast Guard on or before August 24, 2005.

ADDRESSES: MERPAC will meet on both days at the RTM STAR Center, 2 West Dixie Highway, Dania Beach, FL 33004. Further directions regarding the location of the RTM STAR Center may be obtained by contacting Ms. Vickie Valderrama at (954) 920-3222, extension 7253. Send written material and requests to make oral presentations to Mr. Mark Gould, Commandant (G-MSO-1), U.S. Coast Guard Headquarters, 2100 Second Street SW., Washington, DC 20593-0001. This notice is available on the Internet at http://dms.dot.gov.

FOR FURTHER INFORMATION CONTACT: For questions on this notice, contact Mr. Gould, Assistant to the Executive Director, telephone 202-267-6890, fax 202-267-4570, or e-mail mgould@comdt.uscg.mil.

SUPPLEMENTARY INFORMATION: Notice of these meetings is given under the Federal Advisory Committee Act, 5 U.S.C. App. 2 (Pub. L. 92-463, 86 Stat. 770, as amended).

Agenda of Meeting on September 7, 2005:

The full committee will meet to discuss the objectives for the meeting. The working groups addressing the following task statements may meet to deliberate: Task Statement 30, concerning utilizing military sea service for STCW certifications; Task Statement 49, concerning recommendations for use of a model sea course project in conjunction with an approved program for officer in charge of an engineering watch coming up through the hawse pipe; Task Statement 50, concerning recommendations on a training and assessment program for qualified member of the engine department on sea-going vessels; and Task Statement 51, concerning minimum standard of competence on tanker safety. In addition, new working groups may be formed to address issues proposed by the Coast Guard, MERPAC members, or the public. All task statements may be viewed at the MERPAC Web site at http://www.uscg.mil/hq/g-m/advisory/merpac/merpac.htm.

At the end of the day, the working groups will make a report to the full committee on what has been accomplished in their meetings. No action will be taken on these reports on this date.

Agenda of Meeting on September 8, 2005:

The agenda comprises the following:

(1) Introduction.

(2) Working Groups' Reports

(a) Task Statement 30, concerning utilizing military sea service for STCW certifications;

(b) Task Statement 49, concerning recommendations for use of a model sea course project in conjunction with an approved program for officer in charge of an engineering watch coming up through the hawse pipe;

(c) Task Statement 50, concerning recommendations on a training and assessment program for qualified member of the engine department on sea-going vessels;

(d) Task Statement 51, concerning minimum standard of competence on tanker safety; and

(e) Other task statements which may have been adopted for discussion and action.

(3) Other items to be discussed:

(a) Standing Committee—Prevention Through People.

(b) Briefings concerning on-going projects of interest to MERPAC.

(c) Other items brought up for discussion by the committee or the public.

Procedural:

Both meetings are open to the public. Please note that the meetings may adjourn early if all business is finished. At the Chair's discretion, members of the public may make oral presentations during the meetings. If you would like to make an oral presentation at a meeting, please notify Mr. Gould no later than August 24, 2005. Written material for distribution at a meeting should reach the Coast Guard no later than August 24, 2005. If you would like a copy of your material distributed to each member of the committee or subcommittee in advance of the meeting, please submit 25 copies to Mr. Gould no later than August 24, 2005.

Information on Services for Individuals with Disabilities

For information on facilities or services for individuals with disabilities or to request special assistance at the meetings, contact Mr. Gould as soon as possible.

Dated: July 27, 2005.
Captain Lorne W. Thomas, USCG,
Acting Director of Standards, Marine Safety, Security and Environmental Protection.

[FR Doc. 05-15615 Filed 8-5-05; 8:45 am]

BILLING CODE 4910-15-P